DEPARTMENT OF LABOR

Employment and Training Administration

[TA-W-51,768]

Chilkoot Fish Company, Haines, AK; Notice of Termination of Investigation

Pursuant to section 221 of the Trade Act of 1974, as amended, an investigation was initiated on May 14, 2003, in response to a worker petition filed by a company official on behalf of workers at Chilkoot Fish Company, Haines, Alaska.

The petitioner no longer wants to pursue the petition investigation. Consequently, further investigation would serve no purpose and the investigation is terminated.

Signed at Washington, DC, this 13th day of August, 2003.
Linda G. Poole,
Certifying Officer, Division of Trade Adjustment Assistance.

[FR Doc. 03-22276 Filed 8-29-03; 8:45 am]

BILLING CODE 4510-30-P